DEPARTMENT OF ENERGY

Federal Energy Regulatory Commission

Combined Notice of Filings #1

Take notice that the Commission received the following electric corporate filings:

Docket Numbers: EC13-2-000.

Applicants: Zephyr Wind, LLC, BlackRock NTR Renewable Power Fund (Master), L.P.

Description: Application for Authorization Pursuant to Section 203 of the Federal Power Act and Requests for Waivers of Filing Requirements, Confidential Treatment, and Expedited Review of Zephyr Wind, LLC, et al.

Filed Date: 10/1/12.

Accession Number: 20121001-5511.

Comments Due: 5 p.m. ET 10/22/12.

Take notice that the Commission received the following electric rate filings:

Docket Numbers: ER10-2985-006; ER10-3049-007; ER10-3051-007.

Applicants: Champion Energy Marketing LLC, Champion Energy Services, LLC, Champion Energy, LLC.

Description: Notice of Change in Status for Champion Energy Marketing LLC, et al.

Filed Date: 10/1/12.

Accession Number: 20121001-5516.

Comments Due: 5 p.m. ET 10/22/12.

Docket Numbers: ER11-4666-001; ER11-4667-001; ER11-4669-001; ER11-4670-001.

Applicants: NaturEner Glacier Wind Energy 1, LLC, NaturEner Glacier Wind Energy 2, LLC, NaturEner Power Watch, LLC, NaturEner Montana Wind Energy, LLC.

Description: Notice of Change in Facts of NaturEner Glacier Wind Energy 1, LLC, et al.

Filed Date: 10/1/12.

Accession Number: 20121001-5470.

Comments Due: 5 p.m. ET 10/22/12.

Docket Numbers: ER12-678-002.

Applicants: Midwest Independent Transmission System Operator, Inc.

Description: 10-1-12 VLR Compliance to be effective 9/1/2012.

Filed Date: 10/1/12.

Accession Number: 20121001-5433.

Comments Due: 5 p.m. ET 10/22/12.

Docket Numbers: ER12-1856-001.

Applicants: California Independent System Operator Corporation.

Description: 2012-10-01 Filing in Compliance with August 31, 2012 Order in Docket ER12-1856 to be effective 9/1/2012.

Filed Date: 10/1/12.

Accession Number: 20121001-5378.

Comments Due: 5 p.m. ET 10/22/12.

Docket Numbers: ER12-2662-000.

Applicants: Park Power LLC.

Description: Park Power LLC supplements their Application for Market Based Authority.

Filed Date: 10/1/12.

Accession Number: 20121001-5488.

Comments Due: 5 p.m. ET 10/22/12.

Docket Numbers: ER13-5-000.

Applicants: ITC Midwest LLC.

Description: New 205 Filing of SMMPA O&M Agreement to be effective 12/31/9998.

Filed Date: 10/1/12.

Accession Number: 20121001-5449.

Comments Due: 5 p.m. ET 10/22/12.

Docket Numbers: ER13-6-000.

Applicants: Alabama Power Company.

Description: OATT Amendments to be effective 12/1/2012.

Filed Date: 10/1/12.

Accession Number: 20121001-5459.

Comments Due: 5 p.m. ET 10/22/12.

Docket Numbers: ER13-7-000

Applicants: Arizona Public Service Company.

Description: Edison Navajo Transmission Agreement to be effective 12/1/2012.

Filed Date: 10/1/12.

Accession Number: 20121001-5461.

Comments Due: 5 p.m. ET 10/22/12.

Docket Numbers: ER13-8-000.

Applicants: Hermiston Generating Company, L.P.

Description: Baseline refile to be effective 12/14/2001.

Filed Date: 10/2/12.

Accession Number: 20121002-5001.

Comments Due: 5 p.m. ET 10/23/12.

Docket Numbers: ER13-10-000.

Applicants: Arizona Public Service Company.

Description: Request to Defer and Amortize Costs through APS OATT Transmission Formula to be effective 12/1/2012.

Filed Date: 10/2/12.

Accession Number: 20121002-5071.

Comments Due: 5 p.m. ET 10/23/12.

Take notice that the Commission received the following public utility holding company filings:

Docket Numbers: PH13-1-000.

Applicants: Bloom Energy Corporation, Clean Technologies, LLC, Bloom Energy 2009 PPA Portfolio Holding Company, LLC, Clean Technologies II, LLC, Diamond State Generation Holdings, LLC.

Description: Bloom Energy Corporation, et al. submits FERC-65-B Waiver Notification under PH13-1.

Filed Date: 10/2/12.

Accession Number: 20121002-5062.

Comments Due: 5 p.m. ET 10/23/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2012.
Nathaniel J. Davis, Sr.,
Deputy Secretary.

[FR Doc. 2012-25267 Filed 10-12-12; 8:45 am]

BILLING CODE 6717-01-P